DEPARTMENT OF THE INTERIOR

Bureau of Indian Affairs

[K00103 12/13 A3A10; 134D0102DR-DS5A300000-DR.5A311.IA000113]

Advisory Board for Exceptional Children

AGENCY: Bureau of Indian Affairs, Interior.

ACTION: Notice of meeting.

SUMMARY: The Bureau of Indian Education (BIE) is announcing that the Advisory Board for Exceptional Children (Advisory Board) will hold its next meeting in Lawrence, Kansas. The purpose of the meeting is to meet the mandates of the Individuals with Disabilities Education Act of 2004 (IDEA) for Indian children with disabilities.

DATES: The Advisory Board will meet on Thursday, September 15, 2016, from 8:30 a.m. to 4:30 p.m. Central Time and Friday, September 16, 2016, from 8:30 a.m. to 4:30 p.m. Central Time.

ADDRESSES: The meeting will be held at the Regents Room, Navarre Hall, Haskell Indian Nations University, 155 Indian Avenue, Lawrence, Kansas 66046, telephone number (202) 208-2352.

FOR FURTHER INFORMATION CONTACT: Sue Bement, Designated Federal Officer, Bureau of Indian Education, Office of the Associate Deputy Director—Tribally Controlled Schools, 2001 Killebrew Drive, Suite 122, Bloomington, MN 55425; telephone number (952) 851-5423.

SUPPLEMENTARY INFORMATION: The Advisory Board was established under the Individuals with Disabilities Act of 2004 (20 U.S.C. 1400 et seq.) to advise the Secretary of the Interior, through the Assistant Secretary-Indian Affairs, on the needs of Indian children with disabilities. The meetings are open to the public.

The following items will be on the agenda:

• Introduction of Advisory Board members

• Report from Donald Griffin, Supervisory Education Specialist, BIE, Division of Performance and Accountability

• Report from BIE Director's Office

• Board work on Priorities for 2016

• Public comment (via conference call, September 16, 2016 meeting only*)

• Advisory Board advice and recommendations

* During the September 16, 2016 meeting, time has been set aside for public comment via conference call from 1:30-2:00 p.m. Central Time. The call-in information is: Conference Number 1-888-417-0376, Passcode 1509140.

Dated: August 1, 2016.
Lawrence S. Roberts,
Principal Deputy Assistant Secretary—Indian Affairs.

[FR Doc. 2016-18718 Filed 8-5-16; 8:45 am]

BILLING CODE P